DEPARTMENT OF THE INTERIOR

Bureau of Land Management

[LLCOF000000-L10200000.PH0000-223]

Notice of Colorado's Rocky Mountain District Resource Advisory Council Public Meetings

AGENCY: Bureau of Land Management, Interior.

ACTION: Notice of public meetings.

SUMMARY: In accordance with the Federal Land Policy and Management Act of 1976 and the Federal Advisory Committee Act of 1972, the U.S. Department of the Interior, Bureau of Land Management (BLM) Colorado's Rocky Mountain Resource Advisory Council (RAC) is announcing the 2022 schedule of public meetings.

DATES: The Rocky Mountain RAC will meet twice in 2022 as follows:

• The RAC will host a virtual meeting April 13-14 from 9 a.m. to 4 p.m.

• The RAC will host virtual meetings on August 16 from 9 a.m. to 4 p.m. and on August 18 from 9 a.m. to 12 p.m. The RAC will host a field tour on August 17 from 9 a.m. to 4:30 p.m.

All meetings and the field tour are open to the public.

ADDRESSES: The August 17 field tour will commence at the Royal Gorge Field Office, 3028 E Main St., Canon City, CO 71212. Attendees will then travel to the Penrose Commons OHV Area. The virtual meetings will be held via the Zoom platform. Registration and participation information will be available on the RAC's web page 30 days in advance of the meetings at https://www.blm.gov/get-involved/resource-advisory-council/near-you/colorado/rocky-mountain-rac.

FOR FURTHER INFORMATION CONTACT: Maribeth Pecotte, Public Affairs Specialist; BLM Rocky Mountain District Office, 3028 E Main St., Canon City, CO 71212; telephone: (970) 724-3027; email: mpecotte@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The 15-member Rocky Mountain RAC advises the Secretary of the Interior, through the BLM, on a variety of public land issues in the Rocky Mountain District of Colorado, including the Royal Gorge Field Office, San Luis Valley Field Office, and Browns Canyon National Monument. Agenda topics for the April 13 and 14 virtual meeting will include a review of roles and responsibilities of RAC members; Field and District Manager updates; a discussion on transient/homeless issues on public lands; presentations on National Environmental Policy Act/land use planning, recreation management, dispersed camping and travel management planning on BLM public lands in Chaffee County, and the Browns Canyon National Monument; updates on the fire and fuels program, livestock trespass in the Rio Grande Natural Area, and the Eastern Colorado RMP; and prework for the San Luis Valley RMP Revision. Agenda items for the August 16 and 18 virtual meeting include Field and District Manager updates; BLM program presentations on cultural resources, grazing, and wetlands restoration in the San Luis Valley; and updates on the Browns Canyon National Monument and the Eastern Colorado RMP. Public comment periods are scheduled for 3 p.m. on April 13 and 14, 3 p.m. on August 16, and 11 a.m. on August 18. Contingent on the number of people who wish to comment during the public comment periods, individual comments may be limited. The public may present written comments to the Rocky Mountain RAC at least 2 weeks in advance of the meeting to the contact listed in the FOR FURTHER INFORMATION CONTACT section of this notice. Please include “RAC Comment” in your submission. Before including your address, phone number, email address, or other personal identifying information in your comment, you should be aware that your entire comment including your personal identifying information may be made publicly available at any time. While you can ask us in your comment to withhold your personal identifying information from public review, we cannot guarantee that we will be able to do so.

Members of the public are welcome on field tours but must provide their own transportation and meals. Individuals who plan to attend must RSVP to the BLM Southwest District Office at least 1 week in advance of the field tours to the contact listed in the FOR FURTHER INFORMATION CONTACT section of this Notice. Individuals who need special assistance, such as sign language interpretation and other reasonable accommodations, should also contact the BLM (see FOR FURTHER INFORMATION CONTACT). The field tours will follow current Centers for Disease Control and Prevention COVID-19 guidance regarding social distancing and wearing of masks. Additional information regarding the meetings will be available on the RAC's web page at https://www.blm.gov/get-involved/resource-advisory-council/near-you/colorado/rocky-mountain-rac.

Summary minutes for the RAC meetings will be maintained on the RAC's web page and in the Rocky Mountain District Office and will be available for public inspection and reproduction during regular business hours within 30 days following the meeting. Previous minutes and agendas are also available on the RAC's web page.

(Authority: 43 CFR 1784.4-2)

Stephanie Connolly,
Acting BLM Colorado State Director.

[FR Doc. 2022-04974 Filed 3-8-22; 8:45 am]

BILLING CODE 4310-JB-P